DEPARTMENT OF HEALTH AND HUMAN SERVICES

Agency for Healthcare Research and Quality

Agency Information Collection Activities: Proposed Collection; Comment Request

AGENCY: Agency for Healthcare Research and Quality, HHS.

ACTION: Notice.

SUMMARY: The Agency for Healthcare Research and Quality (AHRQ) has a comprehensive web-based Library of Patient-Centered Outcomes Research (PCOR) Resources to help make available the PCOR research, findings, tools, and other resources that have been developed as a result of investments by public, private, nonprofit, and academic organizations. This Library of PCOR Resources includes PCOR findings and evidence-based tools that have appeared in the published literature, as well as studies and projects that are in progress.

The information in this web-based library is intended to assist researchers who may be conducting new studies, as well as clinicians, policymakers, consumers, and others who are seeking access to evidence-based health information. Each resource provided in the library provides a summary and access to information on PCOR studies and related syntheses and translations.

Through this Request for Information (RFI), AHRQ is seeking feedback about the Library of PCOR Resources and the materials that can be accessed there to gauge how well the Library and those materials meet the needs of potential users in the general public.

DATES: Submission deadline on or before June 11, 2018.

ADDRESSES: Electronic responses are preferred and should be sent to: PCORResrouces@ahrq.hhs.gov. Non-electronic responses will also be accepted. Please mail responses to: Gail Makulowich, Office of Communications, Agency for Healthcare Research and Quality, 5600 Fishers Lane, 07N104B, Rockville, MD 20857.

FOR FURTHER INFORMATION CONTACT: Gail Makulowich, Office of Communications, gail.makulowich@ahrq.hhs.gov, 301-427-1711.

SUPPLEMENTARY INFORMATION: The mission of the Agency for Healthcare Research and Quality (AHRQ) is to produce evidence to make health care safer, higher quality, more accessible, equitable, and affordable, and to work within the U.S. Department of Health and Human Services and with other public and private partners to make sure that the evidence is understood and used. The Agency strives to meet this mission by investing in research and generating needed evidence that supports disseminating tested practices, creating materials to teach and train health care systems and professionals to catalyze improvements in care, and developing measures and data used to track and improve performance. To learn more about the Agency, visit AHRQ.gov.

AHRQ is providing this Library of PCOR Resources in response to the 2010 Patient Protection and Affordable Care Act, Title VI, Section 937. This Act mandates that AHRQ, in consultation with the National Institutes of Health (NIH), disseminate findings published by the Patient-Centered Outcomes Research Institute (PCORI) and other Government-funded entities that sponsor research on comparative clinical effectiveness. AHRQ will disseminate these findings to physicians, health care providers, patients, vendors of health information technology focused on decision support, appropriate professional associations, and Federal and private health plans.

The Patient Protection and Affordable Care Act directs AHRQ to “develop a publicly available resource database.” However, to ensure that AHRQ is providing the most up-to-date information and making the best use of resources, AHRQ is providing direct links to relevant PCOR resources.

Submission Instructions

Specific questions of interest to AHRQ include, but are not limited to:

• What was your first impression of the Library of PCOR Resources?

• What do you like the most?

• What do you like the least?

• How can AHRQ improve these pages?

• Is there anything missing on these pages?

• Overall, how easy is it to find what you need on these pages?

• Are the materials available through the Library of PCOR Resources useful?

AHRQ will use the information it receives to assess the layout, design, and content of the Library of Resources and will revise the pages, as needed, based on the feedback provided by the general public.

Francis D. Chesley, Jr.,
Acting Deputy Director.

[FR Doc. 2018-10090 Filed 5-10-18; 8:45 am]

BILLING CODE 4160-90-P